DEPARTMENT OF STATE

Bureau of Political-Military Affairs

[Public Notice 3767]

U.N. Arms Embargo of Liberia

AGENCY: Department of State.

ACTION: Notice.

SUMMARY: Notice is hereby given that all licenses and other approvals to export or otherwise transfer defense articles or defense services to Liberia will continue to be denied pursuant to section 38 of the Arms Export Control Act (AECA) and section 5 of the U.N. Participation Act(UNPA) in implementation of UN Security Council Resolution 1343.

EFFECTIVE DATE: September 5, 2001.

FOR FURTHER INFORMATION CONTACT: Mary Sweeney, Munitions Control Analyst, Office of Defense Trade Controls, Bureau of Political-Military Affairs, Department of State (202) 633-2700.

SUPPLEMENTARY INFORMATION: U.N. Security Council Resolution (UNSC) 788 (1992) instituted an embargo on all deliveries of weapons and military equipment to Liberia. Consequently, the Department of State imposed a suspension on all previously issued licenses and approvals authorizing the export or transfer of defense articles or defense services to Liberia, and instituted a policy of denial for all new applications for licenses and other approvals to export or otherwise transfer defense articles or defense services to Liberia (57 FR 60265, December 18, 1992). The prohibited country list at section 126.1 of the International Traffic in Arms Regulations (ITAR) was updated on July 22, 1993 (58 FR 39280) to include Liberia.

Since that time, the Government of Liberia has been supporting armed rebel groups in the region and the Revolutionary United Front (RUF) in Sierra Leone in preparing and committing attacks on neighboring countries. On March 7, 2001, the U.N. Security Council adopted UNSCR 1343 replacing the earlier arms embargo imposed by UNSCR 788 with a broader embargo. This notice hereby advises that U.S. implementation of the prohibitions set forth in UNSCR 1343 is given effect by continuing the existing policy of denial for Liberia.

UNSCR 1343 requires that all States prevent the sale or supply to Liberia by their nationals or from their territories or using their flag vessels or aircraft, of arms and related materiel of all types, including weapons and ammunition, military vehicles and equipment, paramilitary equipment and spare parts for the aforementioned. Also, the resolution requires States to prevent any provision to Liberia by their nationals or from their territories of technical training or assistance related to the provision, manufacture, maintenance or use of the aforementioned items. UNSCR 1343 has limited exceptions for supplies of non-lethal military equipment intended solely for humanitarian or protective use if approved in advance by an established Committee of the Security Council, and also for certain protective clothing exported to Liberia by United Nations personnel, humanitarian workers and the media for their personal use.

In accordance with 22 CFR 126.1, the U.S. Government will continue to deny all applications for licenses and other approvals to export or otherwise transfer defense articles and services to Liberia. This action also continues to preclude the use in connection with Liberia of any exemptions from licensing or other approval requirements (e.g. brokering) available under the ITAR. Exceptions to this denial policy, particularly for non-lethal items intended solely for humanitarian or protective use, will be considered on a case-by-case basis.

This action has been taken pursuant to section 38 of the Arms Export Control Act (22 U.S.C. 2778) and relevant provisions of the ITAR, as well as section 5 of the UN Participation Act (22 U.S.C. 287(c)).

Dated: August 27, 2001.
John R. Bolton,
Under Secretary, Arms Control and International Security, Department of State.

[FR Doc. 01-22262 Filed 9-4-01; 8:45 am]

BILLING CODE 4710-25-P